ENVIRONMENTAL PROTECTION AGENCY

[EPA-HQ-OA-2012-0033; FRL-9706-4]

Proposed Information Collection Request; Comment Request; Valuing Improved Water Quality in the Chesapeake Bay Using Stated Preference Methods (New)

AGENCY: Environmental Protection Agency (EPA).

ACTION: Notice.

SUMMARY: The Environmental Protection Agency is planning to submit an information collection request (ICR), “Valuing Improved Water Quality in the Chesapeake Bay Using Stated Preference Methods (New)” (EPA ICR No. 2456.01, OMB Control No. 2010-NEW) to the Office of Management and Budget (OMB) for review and approval in accordance with the Paperwork Reduction Act. On May 24, 2012 EPA solicited public comments for 60 days on the proposed ICR. Certain supporting documents were not available for public review in the docket during the first 30 days of the comment period, thus EPA is re-opening the comment period for an additional 30 days from the publication of this notice. Public comments are being solicited on specific aspects of the proposed information collection as described below. This is a request for approval of a new collection. An Agency may not conduct or sponsor and a person is not required to respond to a collection of information unless it displays a currently valid OMB control number.

DATES: Comments must be submitted on or before August 27, 2012.

ADDRESSES: Submit your comments, referencing Docket ID No. EPA-HQ-OA-2012-0033 online using www.regulations.gov (our preferred method); by email to oei.docket@epa.gov; by fax at (202) 566-9744; or by mail to EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Dr. Nathalie Simon, National Center for Environmental Economics, Office of Policy, (1809T), Environmental Protection Agency, 1200 Pennsylvania Ave. NW., Washington, DC 20460; telephone number: 202-566-2347; fax number: 202-566-2363; email address: simon.nathalie@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Clean Water Act (CWA) directs EPA to coordinate Federal and State efforts to improve water quality in the Chesapeake Bay. In 2009, Executive Order (E.O.) 13508 re-emphasized this mandate, directing EPA to define the next generation of tools and actions to restore water quality in the Bay and describe the changes to be made to regulations, programs, and policies to implement these actions. In response, EPA is undertaking an assessment of the costs and benefits of meeting established pollution budgets, called Total Maximum Daily Loads (TMDL), of nitrogen, phosphorus, and sediment for the Chesapeake Bay.

The Chesapeake Bay watershed encompasses 64,000 square miles in parts of six states and the District of Columbia. While efforts have been underway to restore the Bay for more than 25 years, and significant progress has been made over that period, the TMDLs are necessary to continue progress toward the goal of a healthy Bay. The watershed states of New York, Pennsylvania, Delaware, West Virginia, Virginia, and Maryland, as well as the District of Columbia, have developed Watershed Implementation Plans (WIPs) detailing the steps each will take to meet its obligations under the TMDLs. EPA has begun a new study to estimate costs of compliance with the TMDLs. A multitude of benefits may also be anticipated to arise from restoring the Chesapeake Bay. It is important to put cost estimates in perspective by estimating corresponding benefits.

EPA's National Center for Environmental Economics (NCEE) is undertaking a benefits analysis of improvements in Bay water quality under the TMDLs, as well as of ancillary benefits that might arise from terrestrial measures taken to improve water quality. As part of this analysis, NCEE plans to conduct a broad-based inquiry into benefits using a state-of-the-art stated preference survey. Benefits from the TMDLs for the Chesapeake will accrue to those who live on or near the Bay and its tributaries, as well as to those who live further away and may never visit the Bay but have a general concern for the environment. The latter category of benefits is typically called “non-use values” and estimating the monetary value can only be achieved through a stated preference survey.

In addition, a stated preference survey is able to estimate “use values,” those benefits that accrue to individuals who choose to live on or near the Bay or recreate in the watershed. Stated preference surveys allow the analyst to define a specific object of choice or suite of choices such that benefits are defined in as precise a manner as feasible. While use benefits of water quality improvements in the Chesapeake Bay watershed will also be estimated through other revealed preference methods, the stated preference survey allows for careful specification of the choice scenarios and will complement estimates found using other methods. Participation in the survey will be voluntary and the identity of the participants will be kept confidential.

Form Numbers: None.

Respondents/affected entities: Individuals 18 years of age or older, residing in one of 18 east coast states and the District of Columbia.

Respondent's obligation to respond: voluntary.

Estimated number of respondents: Primary survey: 2,400 respondents; 400 non-response survey.

Frequency of response: one time collection.

Total estimated burden: 1,034 hours (per year). Burden is defined at 5 CFR 1320.03(b).

Total estimated cost: $24,123 (per year), includes $0 annualized capital or operation & maintenance costs.

Dated: July 20, 2012.
Al McGartland,
Director, National Center for Environmental Economics, Office of Policy.

[FR Doc. 2012-18319 Filed 7-25-12; 8:45 am]

BILLING CODE 6560-50-P